DEPARTMENT OF ENERGY

Federal Energy Regulatory Commission

Combined Notice of Filings #1

Take notice that the Commission received the following exempt wholesale generator filings:

Docket Numbers: EG19-89-000.

Applicants: Griffin Trail Wind, LLC.

Description: Self-Certification of EWG Status of Griffin Trail Wind, LLC.

Filed Date: 4/1/19.

Accession Number: 20190401-5190.

Comments Due: 5 p.m. ET 4/22/19.

Take notice that the Commission received the following electric rate filings:

Docket Numbers: ER12-1260-013; ER13-1793-012.

Applicants: Stephentown Spindle, LLC, Hazle Spindle, LLC.

Description: Errata to May 30, 2018 Notice of Non-Material Change in Status of Stephentown Spindle, LLC, et al.

Filed Date: 3/29/19.

Accession Number: 20190329-5465.

Comments Due: 5 p.m. ET 4/19/19.

Docket Numbers: ER16-2717-003.

Applicants: NextEra Energy Transmission Midwest, LLC.

Description: Compliance filing: NextEra Energy Transmission Midwest, LLC Revised Compliance Filing to be effective 11/30/2016.

Filed Date: 3/29/19.

Accession Number: 20190329-5369.

Comments Due: 5 p.m. ET 4/19/19.

Docket Numbers: ER16-2720-004.

Applicants: NextEra Energy Transmission Southwest, LLC.

Description: Compliance filing: NextEra Energy Transmission Southwest, LLC Revised Compliance Filing to be effective 11/30/2016.

Filed Date: 3/29/19.

Accession Number: 20190329-5375.

Comments Due: 5 p.m. ET 4/19/19.

Docket Numbers: ER18-1775-001.

Applicants: 64KT 8me LLC.

Description: Supplement to November 7, 2018 64KT tariff filing (Notice of Non-Material Change).

Filed Date: 3/29/19.

Accession Number: 20190329-5464.

Comments Due: 5 p.m. ET 4/19/19.

Docket Numbers: ER19-318-001.

Applicants: Cleco Power LLC.

Description: Compliance filing: compliance to 2019 to be effective 4/1/2017.

Filed Date: 4/1/19.

Accession Number: 20190401-5318.

Comments Due: 5 p.m. ET 4/22/19.

Docket Numbers: ER19-714-002.

Applicants: Tucson Electric Power Company.

Description: Tariff Amendment: Amended and Restated Transmission Service Agreement No. 411 to be effective 1/1/2019.

Filed Date: 3/29/19.

Accession Number: 20190329-5427.

Comments Due: 5 p.m. ET 4/19/19.

Docket Numbers: ER19-750-001.

Applicants: The Empire District Electric Company.

Description: Compliance filing: Compliance Filing ER19-750 to be effective 1/1/2019.

Filed Date: 3/29/19.

Accession Number: 20190329-5454.

Comments Due: 5 p.m. ET 4/19/19.

Docket Numbers: ER19-1490-000.

Applicants: Tenaska Frontier Partners, Ltd.

Description: § 205(d) Rate Filing: Reactive Power Rate Schedule Filing to be effective 6/1/2019.

Filed Date: 3/29/19.

Accession Number: 20190329-5453.

Comments Due: 5 p.m. ET 4/19/19.

Docket Numbers: ER19-1491-000.

Applicants: Cleco Power LLC.

Description: § 205(d) Rate Filing: RS 43 Normal to be effective 4/1/2019.

Filed Date: 3/29/19.

Accession Number: 20190329-5455.

Comments Due: 5 p.m. ET 4/19/19.

Docket Numbers: ER19-1492-000.

Applicants: Wisconsin Electric Power Company.

Description: § 205(d) Rate Filing: Section 205 Filing for PIPP Retirement to be effective 4/1/2019.

Filed Date: 3/29/19.

Accession Number: 20190329-5456.

Comments Due: 5 p.m. ET 4/19/19.

Docket Numbers: ER19-1493-000.

Applicants: Public Service Company of Colorado.

Description: 2018 Post-Retirement Benefits Other than Pensions of Public Service Company of Colorado.

Filed Date: 3/29/19.

Accession Number: 20190329-5462.

Comments Due: 5 p.m. ET 4/19/19.

Docket Numbers: ER19-1494-000.

Applicants: Public Service Company of New Mexico.

Description: § 205(d) Rate Filing: Annual Real Power Loss Factor Filing for 2019 to be effective 6/1/2019.

Filed Date: 4/1/19.

Accession Number: 20190401-5295.

Comments Due: 5 p.m. ET 4/22/19.

Docket Numbers: ER19-1495-000.

Applicants: Virginia Electric and Power Company.

Description: § 205(d) Rate Filing: Initial Rate Schedule No. 135 to be effective 4/2/2019.

Filed Date: 4/1/19.

Accession Number: 20190401-5300.

Comments Due: 5 p.m. ET 4/22/19.

Docket Numbers: ER19-1496-000.

Applicants: AEP Appalachian Transmission Company, Inc., AEP Indiana Michigan Transmission Company, Inc., AEP Kentucky Transmission Company, Inc., AEP Ohio Transmission Company, Inc., AEP West Virginia Transmission Company, Inc., PJM Interconnection, L.L.C.

Description: § 205(d) Rate Filing: AEP submits revisions to OATT, Att. H-20B Part II re: Depreciation Rate to be effective 1/1/2018.

Filed Date: 4/1/19.

Accession Number: 20190401-5301.

Comments Due: 5 p.m. ET 4/22/19.

Docket Numbers: ER19-1497-000.

Applicants: Southwest Power Pool, Inc.

Description: § 205(d) Rate Filing: SPS Formula Rate Revisions to Incorporate Changes Accepted in ER18-2319 to be effective 1/1/2019.

Filed Date: 4/1/19.

Accession Number: 20190401-5313.

Comments Due: 5 p.m. ET 4/22/19.

Docket Numbers: ER19-1498-000.

Applicants: AEP Texas Inc.

Description: § 205(d) Rate Filing: AEPTX-Pedernales Electric Cooperative IA First Amend & Restated to be effective 3/13/2019.

Filed Date: 4/1/19.

Accession Number: 20190401-5397.

Comments Due: 5 p.m. ET 4/22/19.

Docket Numbers: ER19-1499-000.

Applicants: PJM Interconnection, L.L.C.

Description: § 205(d) Rate Filing: Amendment to ISA, SA No. 3903; Queue No. AC1-021 (amend) to be effective 5/7/2018.

Filed Date: 4/1/19.

Accession Number: 20190401-5475.

Comments Due: 5 p.m. ET 4/22/19.

Docket Numbers: ER19-1500-000.

Applicants: PJM Interconnection, L.L.C.

Description: § 205(d) Rate Filing: First Revised ISA, SA No. 3478; Queue No. A12/X1-108/AD1-037 to be effective 2/28/2019.

Filed Date: 4/1/19.

Accession Number: 20190401-5504.

Comments Due: 5 p.m. ET 4/22/19.

Docket Numbers: ER19-1501-000.

Applicants: PECO Energy Company, PJM Interconnection, L.L.C.

Description: Compliance filing: PJM TOs' submit revisions to OATT, Sch. 12 re: Feb 28 Order in EL15-95 to be effective 4/22/2016.

Filed Date: 4/1/19.

Accession Number: 20190401-5527.

Comments Due: 5 p.m. ET 4/22/19.

Take notice that the Commission received the following qualifying facility filings:

Docket Numbers: QF19-1015-000.

Applicants: PowerSecure, Inc.

Description: Form 556 of PowerSecure, Inc. [Ardagh Peak-shaving].

Filed Date: 3/29/19.

Accession Number: 20190329-5511.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2019.
Nathaniel J. Davis, Sr.,
Deputy Secretary.

[FR Doc. 2019-06721 Filed 4-4-19; 8:45 am]

BILLING CODE 6717-01-P